DEPARTMENT OF TRANSPORTATION

Federal Aviation Administration

14 CFR Part 39

[Docket No. FAA-2013-1003; Directorate Identifier 2013-NE-33-AD; Amendment 39-18163; AD 2015-10-07]

RIN 2120-AA64

Airworthiness Directives; Turbomeca S.A. Turboshaft Engines

AGENCY: Federal Aviation Administration (FAA), DOT.

ACTION: Final rule; request for comments.

SUMMARY: We are superseding airworthiness directive (AD) 2014-01-01 for all Turbomeca S.A. Arrius 2F turboshaft engines. AD 2014-01-01 required a one-time inspection of the ejector assembly nozzle of certain serial number (S/N) lubricating devices and, if a discrepancy was found, removal and replacement of the affected ejector assembly nozzle with a part eligible for installation. This AD requires the same action as AD 2014-01-01 and expands the list of affected S/N lubricating devices. This AD was prompted by the determination that additional lubricating devices, identifiable by S/N, may have an incorrect bonding of the nozzle on the ejector assembly. We are issuing this AD to prevent failure of the ejector assembly nozzle, which could lead to an in-flight shutdown (IFSD) of the engine, damage to the engine, and damage to the helicopter.

DATES: This AD is effective June 12, 2015.

The Director of the Federal Register approved the incorporation by reference of a certain publication listed in this AD as of June 12, 2015.

The Director of the Federal Register approved the incorporation by reference of a certain other publication listed in this AD as of February 6, 2014 (79 FR 3481, January 22, 2014).

We must receive any comments on this AD by July 13, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Turbomeca S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125. It is also available on the Internet at http://www.regulations.gov by searching for and locating Docket No. FAA-2013-1003.

Examining the AD Docket

You may examine the AD docket on the Internet at http://www.regulations.gov by searching for and locating Docket No. FAA-2013-1003; or in person at the Docket Management Facility between 9 a.m. and 5 p.m., Monday through Friday, except Federal holidays. The AD docket contains this AD, the mandatory continuing airworthiness information, regulatory evaluation, any comments received, and other information. The address for the Docket Office (phone: 800-647-5527) is in the ADDRESSES section. Comments will be available in the AD docket shortly after receipt.

FOR FURTHER INFORMATION CONTACT: Philip Haberlen, Aerospace Engineer, Engine Certification Office, FAA, Engine & Propeller Directorate, 12 New England Executive Park, Burlington, MA 01803; phone: 781-238-7770; fax: 781-238-7199; email: philip.haberlen@faa.gov.

SUPPLEMENTARY INFORMATION:

Comments Invited

This AD is a final rule that involves requirements affecting flight safety, and we did not provide you with notice and an opportunity to provide your comments before it becomes effective. However, we invite you to send any written data, views, or arguments about this AD. Send your comments to an address listed under the ADDRESSES section. Include “Docket No. FAA-2013-1003; Directorate Identifier 2013-NE-33-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Discussion

On January 2, 2014, we issued AD 2014-01-01, Amendment 39-17724 (79 FR 3481, January 22, 2014), (“AD 2014-01-01”), for all Turbomeca S.A. Arrius 2F turboshaft engines. AD 2014-01-01 required a one-time inspection of the ejector assembly nozzle of certain S/N lubricating devices and, if a discrepancy was found, removal and replacement of the affected ejector assembly nozzle with a part eligible for installation. AD 2014-01-01 resulted from an IFSD of an Arriel 1 engine. We issued AD 2014-01-01 to prevent failure of the ejector assembly nozzle, which could lead to an IFSD of the engine, damage to the engine, and damage to the helicopter.

Actions Since AD 2014-01-01 Was Issued

Since we issued AD 2014-01-01 it has been determined that additional lubricating devices, identifiable by S/N, may have the same unsafe condition, an incorrect bonding of the nozzle on the ejector assembly. Also since we issued AD 2014-01-01, the European Aviation Safety Agency (EASA) has issued AD 2015-0057, dated April 1, 2015, which requires inspection, and replacement as necessary, of the affected lubricating devices.

Related Service Information Under 1 CFR Part 51

We reviewed Turbomeca S.A. Mandatory Service Bulletin (MSB) No. 319 79 4835, Version B, dated February 12, 2015. The MSB describes procedures for inspecting the ejector assembly nozzle and, if necessary, replacing the ejector assembly nozzle. This service information is reasonably available because the interested parties have access to it through their normal course of business or by the means identified in the ADDRESSES section of this AD.

FAA's Determination

We are issuing this AD because we evaluated all the relevant information and determined the unsafe condition described previously is likely to exist or develop in other products of the same type design.

AD Requirements

This AD requires a one-time inspection of the ejector assembly nozzle of certain S/N lubricating devices and, for any ejector assembly nozzle that fails inspection, removal and replacement with a part eligible for installation.

FAA's Justification and Determination of the Effective Date

An unsafe condition exists that requires the immediate adoption of this AD. The FAA has found that the risk to the flying public justifies waiving notice and comment prior to adoption of this rule because of the short compliance time requirement. Therefore, we find that notice and opportunity for prior public comment are impracticable and that good cause exists for making this amendment effective in less than 30 days.

Costs of Compliance

We estimate that this AD affects 96 engines installed on helicopters of U.S. registry. We also estimate that it will take about 1 hour per engine to comply with this AD. The average labor rate is $85 per hour. Required parts cost about $563 per engine. Based on these figures, we estimate the cost of this AD on U.S. operators to be $62,208.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-01-01, Amendment 39-17724 (79 FR 3481, January 22, 2014), and adding the following new AD:

2015-10-07 Turbomeca S.A.: Amendment 39-18163; Docket No. FAA-2013-1003; Directorate Identifier 2013-NE-33-AD.

(a) Effective Date

This AD is effective June 12, 2015.

(b) Affected ADs

This AD supersedes AD 2014-01-01, Amendment 39-17724 (79 FR 3481, January 22, 2014).

(c) Applicability

This AD applies to all Turbomeca S.A. Arrius 2F turboshaft engines.

(d) Unsafe Condition

This AD was prompted by the determination that additional lubricating devices, identifiable by serial number (S/N), may have an incorrect bonding of the nozzle on the ejector assembly. We are issuing this AD to prevent failure of the ejector assembly nozzle, which could lead to an in-flight shutdown of the engine, damage to the engine, and damage to the helicopter.

(e) Compliance

Comply with this AD within the compliance times specified, unless already done.

(1) For engines equipped with a lubricating device having an S/N listed in Figure 1 to paragraph (e) of this AD, within 30 days after the effective date of this AD, inspect the ejector assembly nozzle and the tightening torque. Use paragraphs 4.4.2.1 through 4.4.2.3.4.2 of Turbomeca Mandatory Service Bulletin (MSB) No. 319 79 4835, Version B, dated February 12, 2015, to do the inspection.

(2) For any part that fails the inspection required by paragraph (e)(1) of this AD, before further flight, remove and replace the failed part with a part eligible for installation.

Figure 1 to Paragraph (e)—S/N's of Affected Lubricating Devices
100 | 140M | 185M | 247 | 436M
105M | 141M | 190M | 255M | 443M
106 | 142B | 191M | 266M | 445M
107B | 146M | 195M | 278M | 451M
109M | 147M | 198M | 292M | 467M
112B | 156M | 202M | 304M | 477M
112M | 159M | 204M | 330M | 479M
114B | 164M | 207M | 334M | 483M
124B | 178 | 210M | 369M | 484M
125M | 178M | 213M | 384M | 512M
129M | 180 | 218M | 391M | 526M
135B | 180M | 222M | 392M | 563M
135M | 181M | 244M | 417M

(f) Credit for Previous Actions

If you inspected the ejector assembly nozzle of any lubricating device having an S/N listed in Figure 1 to paragraph (e) of this AD before the effective date of this AD, using the instructions of Turbomeca S.A. MSB No. 319 79 4835, Version A, dated May 22, 2013, you met the requirements of paragraph (e) of this AD for that S/N lubricating device.

(g) Installation Prohibition

After the effective date of this AD, do not return to service any engine having a lubricating device with an S/N listed in Figure 1 to paragraph (e) of this AD, unless the engine has been inspected per the requirements of paragraph (e) of this AD.

(h) Alternative Methods of Compliance (AMOCs)

The Manager, Engine Certification Office, FAA, may approve AMOCs for this AD. Use the procedures found in 14 CFR 39.19 to make your request. You may email your request to: ANE-AD-AMOC@faa.gov.

(i) Related Information

(1) For more information about this AD, contact Philip Haberlen, Aerospace Engineer, Engine Certification Office, FAA, Engine & Propeller Directorate, 12 New England Executive Park, Burlington, MA 01803; phone: 781-238-7770; fax: 781-238-7199; email: philip.haberlen@faa.gov.

(2) Refer to MCAI European Aviation Safety Agency AD 2015-0057, dated April 1, 2015, for more information. You may examine the MCAI in the AD docket on the Internet at http://www.regulations.gov by searching for and locating it in Docket No. FAA-2013-1003.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 12, 2015.

(i) Turbomeca S.A. Mandatory Service Bulletin (MSB) No. 319 79 4835, Version B, dated February 12, 2015.

(ii) Reserved.

(4) The following service information was approved for IBR on February 6, 2014 (79 FR 3481, January 22, 2014).

(i) Turbomeca S.A. MSB No. 319 79 4835, Version A, dated May 22, 2013.

(ii) Reserved.

(5) For Turbomeca S.A. service information identified in this AD, contact Turbomeca S.A., 40220 Tarnos, France; phone: 33 (0)5 59 74 40 00; telex: 570 042; fax: 33 (0)5 59 74 45 15.

(6) You may view this service information at FAA, Engine & Propeller Directorate, 12 New England Executive Park, Burlington, MA. For information on the availability of this material at the FAA, call 781-238-7125.

(7) You may view this service information at the National Archives and Records Administration (NARA). For information on the availability of this material at NARA, call 202-741-6030, or go to: http://www.archives.gov/federal-register/cfr/ibr-locations.html.

Issued in Burlington, Massachusetts, on May 13, 2015.
Colleen M. D'Alessandro,
Assistant Directorate Manager, Engine & Propeller Directorate, Aircraft Certification Service.

[FR Doc. 2015-12654 Filed 5-27-15; 8:45 am]

BILLING CODE 4910-13-P